DEPARTMENT OF EDUCATION

Extension of the Comment Period; Proposed Priorities, Requirements, Definitions, and Selection Criteria-Expanding Opportunity Through Quality Charter Schools Program (CSP)—Grants to State Entities (SE Grants); Grants to Charter Management Organizations for the Replication and Expansion of High-Quality Charter Schools (CMO Grants); and Grants to Charter School Developers for the Opening of New Charter Schools and for the Replication and Expansion of High-Quality Charter Schools (Developer Grants)

AGENCY: Office of Elementary and Secondary Education, Department of Education.

ACTION: Proposed priorities, requirements, definitions, and selection criteria; Extension of public comment period.

SUMMARY: On March 14, 2022, the Department of Education (Department) published in the Federal Register a notice of proposed priorities, requirements, definitions, and selection criteria (NPP) for CSP SE Grants, CMO Grants, and Developer Grants, Assistance Listing Numbers (ALNs) 84.282A, 84.282M, 84.282B, and 84.282E. The document established a deadline date of April 13, 2022, for the submission of public comments. We extend the comment period until April 18, 2022.

DATES: We must receive your comments on or before April 18, 2022.

FOR FURTHER INFORMATION CONTACT: Porscheoy Brice, U.S. Department of Education, 400 Maryland Avenue SW, Room 3E209, Washington, DC 20202-5970. Telephone: (202) 260-0968. Email: charterschools@ed.gov.

If you use a telecommunications device for the deaf (TDD) or a text telephone (TTY), call the Federal Relay Service (FRS), toll free, at 1-800-877-8339.

SUPPLEMENTARY INFORMATION: On March 14, 2022, we published the NPP in the Federal Register (87 FR 14197). The NPP established a deadline of April 13, 2022, for the submission of public comments. We are extending the deadline date for the submission of public comments until April 18, 2022, to allow more time for interested parties to prepare and submit their comments.

Program Authority: Title IV, part C of the ESEA (20 U.S.C. 7221-7221j).

Assistance to Individuals With Disabilities in Reviewing the Rulemaking Record: On request, we will provide an appropriate accommodation or auxiliary aid to an individual with a disability who needs assistance to review the comments or other documents in the public rulemaking record for the proposed priorities, requirements, definitions, and selection criteria. If you want to schedule an appointment for this type of accommodation or auxiliary aid, please contact the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Washington,
Deputy Assistant Secretary for Administration Office of Elementary and Secondary Education.

[FR Doc. 2022-07911 Filed 4-11-22; 8:45 am]

BILLING CODE 4000-01-P